UNITED STATES INTERNATIONAL TRADE COMMISSION

[USITC SE-02-012]

Sunshine Act Meeting

AGENCY HOLDING THE MEETING: United States International Trade Commission.

TIME AND DATE: May 2, 2002 at 11 a.m.

PLACE: Room 101, 500 E Street SW., Washington, DC 20436, Telephone: (202) 205-2000.

STATUS: Open to the public.

MATTERS TO BE CONSIDERED: 1. Agenda for future meeting: none.

2. Minutes.

3. Ratification List.

4. Inv. Nos. 701-TA-414 and 731-TA-928 (Final) (Softwood Lumber from Canada)—briefing and vote. (The Commission is currently scheduled to transmit its determination and Commissioners' opinions to the Secretary of Commerce on or before May 16, 2002.)

5. Outstanding action jackets: none.

In accordance with Commission policy, subject matter listed above, not disposed of at the scheduled meeting, may be carried over to the agenda of the following meeting.

Issued: April 17, 2002
By order of the Commission:
Marilyn R. Abbott, Secretary.

[FR Doc. 02-9862 Filed 4-18-02; 10:21 am]

BILLING CODE 7020-02-P